DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 U.S.C. 1531 et seq.).

Permit No. TE-026298

Applicant: Ana M. Gaisiner, San Diego, California.

The applicant requests a permit to take (harass by survey, collect and sacrifice) the San Diego fairy shrimp (Brachinecta sandiegonensis) and the Riverside fairy shrimp (Streptocephalus woottoni) in conjunction with surveys in Riverside and San Diego Counties, California for the purpose of enhancing their survival.

Permit No. TE-796280

Applicant: Hydrozoology, Newcastle, California.

The permittee requests an amendment to take (harass by survey, collect and sacrifice) the San Diego fairy shrimp (Brachinecta sandiegonensis) and the Riverside fairy shrimp (Streptocephalus woottoni) in conjunction with surveys throughout each species' range in California for the purpose of enhancing their survival.

Permit No. TE-838742

Applicant: Michelle M. Dohrn, Glendale, California.

The permittee requests an amendment to take (survey by pursuit) the El Segundo blue butterfly (Euphilotes battoides allyni) in conjunction with surveys throughout the species' range in California for the purpose of enhancing its survival.

Permit No. TE-012136

Applicant: Oregon Department of Environmental Quality, Portland, Oregon.

The permittee requests an amendment to take (capture and handle) the Lost River sucker (Deltistes luxatus) and shortnose sucker (Chasmistes brevirostris) in conjunction with surveys throughout each species' range in Oregon for the purpose of enhancing their survival.

Permit No. TE-026656

Applicant: Barry A. Prigge, North Hollywood, California.

The applicant requests a permit to remove and reduce to possession specimens of Astragalus jaegerianus in conjunction with scientific research throughout the species' range for the purpose of enhancing its survival.

Permit No. TE-018180

Applicant: National Park Service, Point Reyes, California

The permittee requests an amendment to remove and reduce to possession specimens of Alopecurus aequalis var. sonomensis in conjunction with research and the collection of voucher specimens throughout the species' range for the purpose of enhancing its survival.

Permit No. TE-026659

Applicant: Ventana Wilderness Society, Carmel Valley, California.

The applicant requests a permit to take (capture, handle, mark, and release) the California condor (Gymnogyps californianus) in conjunction with reintroduction actions throughout the species' range for the purpose of enhancing its survival. These activities were previously authorized under subpermit VENTWS-10.

Permit No. TE-026932

Applicant: Darlene B. Woodbury, Santa Maria, California.

The applicant requests a permit to take (locate and monitor nests) the California least tern in conjunction with monitoring activities in San Luis Obispo and Santa Barbara Counties, California for the purpose of enhancing its survival.

Permit No. TE-027425

Applicant: Michael D. White, Encinitas, California.

The permittee requests an amendment to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-028233

Applicant: Jonathan Stead, Oakland, California.

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-028228

Applicant: Richard H. Rohrbeck, Romeo, Michigan

The applicant requests a permit to purchase, in interstate commerce, two female and two male captive bred Hawaiian (=nene) geese (Nesochen [=Branta] sandvicensis) for the purpose of enhancing the species propagation and survival.

Permit No. TE-843449

Applicant: Richard J. Eisenbart, San Diego, California.

The permittee requests an amendment to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-702631

Applicant: Assistant Regional Director-Ecological Services, Region 1, U.S. Fish and Wildlife Service, Portland, Oregon.

The permittee requests an amendment to take the O‘ahu ‘elepaio (Chasiempis sandwichensis ibidis) throughout the species’ range in conjunction with recovery efforts for the purpose of enhancing its propagation and survival.

Permit No. TE-027422

Applicant: Brian T. Pittman, Oakland, California.

The applicant requests a permit to take (harass by survey, collect and sacrifice) the Conservancy fairy shrimp (Branchinecta conservatio), longhorn fairy shrimp (Branchinecta longiantenna), and the vernal pool tadpole shrimp (Lepidurus packardi) in conjunction with surveys in northern California for the purpose of enhancing their survival.

Permit No. TE-829250

Applicant: Hawaii Wildlife Fund, Laie, Hawaii.

The permittee requests an amendment to take (capture, mark, collect eggs, and relocate eggs) of the hawksbill sea turtle (Eretmochelys imbricata) in conjunction with scientific research on the islands of Molokai and Hawaii, for the purpose of enhancing its survival.

Permit No. TE-807078

Applicant: Point Reyes Bird Observatory, Stinson Beach, California.

The permittee requests an amendment to take (harass, capture and band) the California least tern (Sterna antilluarum browni) in conjunction with monitoring in Alameda County, California for the purpose of enhancing its survival.

Permit No. TE-795934

Applicant: Jones and Stokes Associates, Sacramento, California.

The permittee requests an amendment to take (capture) the Fresno kangaroo rat (Dipodomys nitratoides exilis) in conjunction with population studies throughout the species' range in California for the purpose of enhancing its survival.

Permit No. TE-797267

Applicant: H.T. Harvey and Associates, San Jose, California.

The permittee requests an amendment to take (harass, locate nests) the California clapper rail (Rallus longirostris obsoletus) in conjunction with ecological research throughout the species' range in California for the purpose of enhancing its survival.

Permit No. TE-802107

Applicant: Patricia Baird, Long Beach, California.

The permittee requests an amendment to take (collect blood) the least tern (Sterna antillarum) throughout the species' range in Mississippi, Texas, and Nebraska and take (collect blood) the California least tern (Sterna antillarum browni) throughout the species' range in California in conjunction with genetic research for the purpose of enhancing their survival.

Permit No. 027730

Applicant: National Fisheries Service, SWFSC, Tiburon Lab, Tiburon, California.

The applicant requests a permit to take (harass by survey, capture and release) the tidewater goby (Eucyclogobius newberryi) throughout the species' range in California in conjunction with presence or absence surveys for the purpose of enhancing its survival.

DATES: Written comments on these permit applications must be received on or before July 20, 2000.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: June 13, 2000.
Don Weathers,
Regional Director, Region 1, Portland, Oregon.

[FR Doc. 00-15467 Filed 6-19-00; 8:45 am]

BILLING CODE 4310-55-P